DEPARTMENT OF HEALTH AND HUMAN SERVICES

Substance Abuse and Mental Health Services Administration

Meetings of the Substance Abuse and Mental Health Services Administration's Tribal Technical Advisory Committee (TTAC), and Joint Meeting of the TTAC and Indian Health Service (IHS) National Tribal Advisory Committee on Behavioral Health (NTAC)

AGENCY: Substance Abuse and Mental Health Services Administration, HHS.

ACTION: Notice.

SUMMARY: Notice is hereby given for the meetings on September 17, 2024, of the Substance Abuse and Mental Health Services Administration's Tribal Technical Advisory Committee (TTAC); and on September 18, 2024, a joint meeting with the TTAC and Indian Health Service (IHS) National Tribal Advisory Committee on Behavioral Health (NTAC). Both meetings are open to the public and will be held in person and virtually. Agenda with call-in information will be posted on the SAMHSA website prior to the meeting at: https://www.samhsa.gov/about-us/advisory-councils/meetings. The TTAC meeting will include, but not be limited to, remarks from the Assistant Secretary for Mental Health and Substance Use; updates on SAMHSA priorities; follow up on topics related to the previous TTAC meetings; and council discussions. The joint meeting of the SAMHSA TTAC and IHS NTAC will include discussion on improving behavioral health for American Indian and Alaska Natives.

DATES:

September 17, 2024, 10:00 a.m. to 5:30 p.m. (PT) (TTAC).

September 18, 2024, 9:00 a.m. to 5:00 p.m. (PT) (SAMHSA TTAC/IHS NTAC).

ADDRESSES: Silver Reef Casino Resort, 4876 Haxton Way, Ferndale, WA 98248.

FOR FURTHER INFORMATION CONTACT: Karen Hearod, CAPT, USPHS, Director, Office of Tribal Affairs Policy, 5600 Fishers Lane, Rockville, Maryland 20857 (mail); telephone: (202) 868-9931; email: karen.hearod@samhsa.hhs.gov

SUPPLEMENTARY INFORMATION: SAMHSA TTAC provides a venue wherein Tribal leadership and SAMHSA staff can exchange information about public health issues, identify urgent mental health and substance abuse needs, and discuss collaborative approaches to addressing these behavioral health issues and needs.

TTAC meetings are exclusively between federal officials and elected officials of Tribal governments (or their designated employees) to exchange views, information, or advice related to the management or implementation of SAMHSA programs. The public may attend but are not allowed to participate in the meeting.

To obtain the call-in number, access code, and/or web access link; or request special accommodations for persons with disabilities, please register on-line at: https://snacregister.samhsa.gov, or communicate with Karen Hearod.

Meeting information and a roster of TTAC members may be obtained either by accessing the SAMHSA Council's website at: https://www.samhsa.gov/about-us/advisory-councils/, or by contacting Karen Hearod.

Authority: Executive Order No. 13175.

Dated: August 20, 2024.
Carlos Castillo,
Committee Management Officer, SAMHSA.

[FR Doc. 2024-19299 Filed 8-27-24; 8:45 am]

BILLING CODE 4162-20-P